DEPARTMENT OF COMMERCE

Bureau of Export Administration

Action Affecting Export Privileges; Michel V. Diago; Order Amending the Order Denying Permission To Apply for or Use Export Licenses

On, September 7, 1997, the acting director of the Office of Exporter Services entered an Order (the 1994 Order) against Michel V. Daigo denying his export privileges until February 25, 2003, based upon his February 25, 1993, conviction in the Untied States District Court for the Northern District of California of violating the Export Administration Act of 1979 as amended (50 U.S.C.A. app. 2401-2420 (1991, Supp. 1993, and Public Law 103-277, July 5, 1994) ¹ the Act). The 1994 Order was issued under the authority of Section1 1(h) of the Act and Sections 766.25 and 750.8(a) of the Export Administration Regulations (currently codified at 15 CFR Parts 730-774 (1999)) (the Regulations). The 1994 Order was published in the Federal Register (50 FR 47299, September 15, 1994).

¹ The Act expired on August 20, 1994, Executive Order 12924 (3 CFR 1994 Comp. 917 (1995)), extended by Presidential Notices of August 15, 1995 (3 CFR, 1995 Comp. 501 (1996)), August 14, 1996 (3 CFR 1996 Comp. 298 (1997)), August 13, 1997 (3 CFR 1997 Comp. 306 (1998)), and August 13, 1998 (3 CFR, 1998 Comp. 294 (1999)), continued the Export Administration Regulations in effect under IEEPA. The Act was renewed and signed into law by the President on November 13, 2000.

In the Matter of: MICHAEL V. DIAGO, 1183 Calle del Arroyo, Sonoma, California 95476.

On, October 18, 1994 Diago, through counsel, filed an appeal from the Order with the Under Secretary for Export Administration (Under Secretary), pursuant to Part 789 (currently Part 756) of the Regulations. On December 22, 2000, the Under Secretary issued his final decision on that appeal and granted partial relief from the terms of the 1994 Order by terminating the denial period as of December 31, 2000.

Accordingly, the 1994 Order is hereby amended to as follows:

Ordered

I. The date “February 25, 2003” in fourth paragraph and in the paragraphs labeled II and V of the 1994 Order is amended to read December 31, 2000.

II. A copy of this Order shall be delivered to Diago. This Order shall be published in the Federal Register.

Dated: January 2, 2001.
Eileen Albanese,
Director, Office of Exporter Services.

[FR Doc. 01-1392 Filed 1-17-01; 8:45 am]

BILLING CODE 3510-DT-M